DEPARTMENT OF TRANSPORTATION

Federal Highway Administration

Rescinding the Notice of Intent for an Environmental Impact Statement (EIS): Washington and Bolivar Counties, Mississippi Division

AGENCY: Federal Highway Administration (FHWA), DOT.

ACTION: Rescind Notice of Intent to prepare an EIS.

SUMMARY: This notice rescinds the Notice of Intent for preparing an Environmental Impact Statement (EIS) for proposed highway to provide a connection between U.S. Highway 82 Bypass and Interstate 69 in Washington and Bolivar Counties, Mississippi, is terminated. The original Notice of Intent for this EIS process was published in the Federal Register on November 29, 2005.

FOR FURTHER INFORMATION CONTACT: Claiborne Barnwell, Project Development Team Leader, Federal Highway Administration, Mississippi Division, 100 West Capitol Street, Suite 1026, Jackson, Mississippi 39269, Telephone: (601) 965-4217.

SUPPLEMENTARY INFORMATION:

Background

The Federal Highway Administration (FHWA) in cooperation with the Mississippi Department of Transportation (MDOT) initiated an Environmental Impact Statement (EIS) with a Notice of Intent November 29, 2005, to provide a connector road, to be built to interstate standards, between the U.S. Highway 82 Bypass in Greenville and Interstate 69 near Benoit.

Due to funding constraints this Notice of Intent is rescinded.

Andrew H. Hughes,
Division Administrator, Mississippi, Federal Highway Administration, Jackson, Mississippi.

[FR Doc. 2010-30024 Filed 11-30-10; 8:45 am]

BILLING CODE M